DEPARTMENT OF TRANSPORTATION

Federal Aviation Administration

14 CFR Part 39

[Docket No. FAA-2007-27565; Directorate Identifier 2006-NM-215-AD; Amendment 39-15111; AD 2007-13-07]

RIN 2120-AA64

Airworthiness Directives; Airbus Model A330 and A340 Airplanes

AGENCY: Federal Aviation Administration (FAA), Department of Transportation (DOT).

ACTION: Final rule.

SUMMARY: The FAA is superseding an existing airworthiness directive (AD), which applies to certain Airbus Model A330-200, A330-300, A340-200, and A340-300 series airplanes; and Model A340-541 and -642 airplanes. That AD currently requires repetitively resetting the display units (DUs) for the electronic instrument system (EIS), either by switching them off and back on again or by performing a complete electrical shutdown of the airplane. This new AD requires installing new software, which would end the actions required by the existing AD. This new AD also adds additional airplanes that may be placed on the U.S. Register in the future. This AD results from an incident in which all of the DUs for the EIS went blank simultaneously during flight. We are issuing this AD to prevent automatic reset of the DUs for the EIS during flight and consequent loss of data from the DUs, which could reduce the ability of the flightcrew to control the airplane during adverse flight conditions.

DATES: This AD becomes effective July 25, 2007.

The Director of the Federal Register approved the incorporation by reference of certain publications listed in the AD as of July 25, 2007.

On September 12, 2005 (70 FR 50166, August 26, 2005), the Director of the Federal Register approved the incorporation by reference of certain other publications listed in the AD.

ADDRESSES: You may examine the AD docket on the Internet at http://dms.dot.gov or in person at the U.S. Department of Transportation, Docket Operations, M-30, West Building Ground Floor, Room W12-140, 1200 New Jersey Avenue, SE., Washington, DC.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Examining the Docket

You may examine the airworthiness directive (AD) docket on the Internet at http://dms.dot.gov or in person at the Docket Operations office between 9 a.m. and 5 p.m., Monday through Friday, except Federal holidays. The Docket Operations office (telephone (800) 647-5527) is located on the ground floor of the West Building at the street address stated in the ADDRESSES section.

Discussion

The FAA issued a notice of proposed rulemaking (NPRM) to amend 14 CFR part 39 to include an AD that supersedes AD 2005-17-18, amendment 39-14239 (70 FR 50166, August 26, 2005). The existing AD applies to certain Airbus Model A330-200, A330-300, A340-200, and A340-300 series airplanes; and Model A340-541 and -642 airplanes. That NPRM was published in the Federal Register on March 15, 2007 (72 FR 12127). That NPRM proposed to continue to require repetitively resetting the display units for the electronic instrument system, either by switching them off and back on again or by performing a complete electrical shutdown of the airplane. That NPRM also proposed to require installing new software, which would end the actions required by the existing AD. That NPRM also proposed to add additional airplanes that may be placed on the U.S. Register in the future.

Comments

We provided the public the opportunity to participate in the development of this AD. No comments have been received on the NPRM or on the determination of the cost to the public.

New Service Bulletin Revision

Since we issued the NPRM, we have received Revision 03 of Airbus Service Bulletin A330-31-3056, dated November 25, 2004. Airbus issued this service bulletin to add non-U.S.-registered airplanes to the effectivity. The service bulletin describes procedures for installing Thales display system standard L4 or L5 in the electronic instrument system 2. No additional work is required for airplanes on which the required actions have been done in accordance with Airbus Service Bulletin A330-31-3056, Revision 02, dated March 24, 2003, which was referred to as the appropriate source of service information for the actions specified in the NPRM. We have changed the reference to this service bulletin in paragraph (i)(1)(ii) of the AD, added a new paragraph (j) of this AD to give credit for actions done before the effective date of this AD according to Revision 02 of the service bulletin, and redesignated subsequent paragraphs of the AD accordingly.

Clarification of Alternative Method of Compliance (AMOC) Paragraph

We have revised this action to clarify the appropriate procedure for notifying the principal inspector before using any approved AMOC on any airplane to which the AMOC applies.

Clarification of Paragraph Identifiers in Paragraph (h) of This AD

We have revised paragraph (h) of this AD to include certain paragraph identifiers in Table 2 that were unintentionally omitted from the NPRM.

Clarification of Applicability

We unintentionally included only the A340-200 of the Model A340 airplanes in the subject line on the first page of the NPRM. It should have read “Airbus Model A330 and A340 Airplanes.” The correct models appeared in all other sections of the NPRM. We have corrected the subject line in the heading of this final rule.

Conclusion

We have carefully reviewed the available data and determined that air safety and the public interest require adopting the AD with the changes described previously. We have determined that these changes will neither increase the economic burden on any operator nor increase the scope of the AD.

Costs of Compliance

The following table provides the estimated costs for U.S. operators to comply with this AD. The average labor rate per work hour is $80.

Estimated Costs
Action | Work hour(s) | Parts | Cost per airplane | Number of U.S.- registered airplanes | Fleet cost
Resetting the DUs (required by AD 2005-17-18) | 1 | None | $80, per reset | 27 | $2,160, per reset.
Installation of new software (new action) | 3 | The manufacturer states that it will supply required parts to the operators at no cost. | $240 | 27 | $6,480.
Additional requirement (new action) | Between 1 and 5, depending on the airplane configuration | The manufacturer states that it will supply required parts to the operators at no cost | Between $80 and $400, depending on the airplane configuration | 27 | Between $2,160 and $10,800, depending on the configuration of the fleet.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14239 (70 FR 50166, August 26, 2005) and by adding the following new airworthiness directive (AD):

2007-13-07 Airbus: Amendment 39-15111. Docket No. FAA-2007-27565; Directorate Identifier 2006-NM-215AD.

Effective Date

(a) This AD becomes effective July 25, 2007.

Affected ADs

(b) This AD supersedes AD 2005-17-18.

Applicability

(c) This AD applies to Airbus Model A330 and A340 airplanes; certificated in any category; on which one of the Airbus Electronic Instrument System 2 (EIS2) software versions listed in Table 1 of this AD is installed; excluding those airplanes on which Airbus Modification 53063 has been done in production.

Table 1.—Applicability
EIS2 software version | Installed by this Airbus Modification in production | Or installed by one of these Airbus Service Bulletins in service
L4-1 | 51153 | A330-31-3056, A330-31-3057, or A340-31-5001.
L5 | 51974 | A330-31-3056, A330-31-3069, A340-31-4087, or A340-31-5012.

Unsafe Condition

(d) This AD results from an incident in which all of the display units (DUs) for the EIS went blank simultaneously during flight. We are issuing this AD to prevent automatic reset of the DUs for the EIS during flight and consequent loss of data from the DUs, which could reduce the ability of the flightcrew to control the airplane during adverse flight conditions.

Compliance

(e) You are responsible for having the actions required by this AD performed within the compliance times specified, unless the actions have already been done.

Requirements of AD 2005-17-18

Resetting the DUs for the EIS

(f) For Model A330-201, -202, -203, -223, -243, -301, -321, -322, -323, -341, -342, and -343 airplanes; and Model A340-211, -212, -213, -311, -312, -313, -541, and -642 airplanes: Within 2 days after September 12, 2005 (the effective date of AD 2005-17-18), or within 4 days after the last reset of the DUs for the EIS or complete electrical shutdown of the airplane, whichever is first: Reset the DUs for the EIS by doing the actions in either paragraph (f)(1) or (f)(2) of this AD. Thereafter, do the actions in paragraph (f)(1) or (f)(2) of this AD at intervals not to exceed 4 days.

(1) Switch off each DU for the EIS, wait 5 seconds or longer, and switch the DU back on again, in accordance with Airbus All Operator Telex (AOT) A330-31A3092 (for Model A330-201, -202, -203, -223, -243, -301, -321, -322, -323, -341, -342, and -343 airplanes), A340-31A4102 (for A340-211, -212, -213, -311, -312, and -313 airplanes), or A340-31A5023 (for Model A340-541 and -642 airplanes), all dated August 1, 2005, as applicable. This action may be performed by the flight deck crew or by certificated maintenance personnel.

(2) Perform a complete electrical shutdown of the airplane.

New Requirements of This Ad

Installation of New Software

(g) For airplanes other than those identified in paragraph (f) of this AD: Within 2 days after the effective date of this AD, or within 4 days after the last reset of the DUs for the EIS or complete electrical shutdown of the airplane, whichever is first, do the reset specified in paragraph (f) of this AD and repeat thereafter at intervals not to exceed 4 days, until the installation required by paragraph (h) of this AD has been done.

(h) For all airplanes: Within 7 months after the effective date of this AD, install EIS2 software standard L6-1 in accordance with the applicable service bulletin identified in Table 2 of this AD. Accomplishing the installation ends the actions required by paragraphs (f) and (g) of this AD.

Table 2.—Service Bulletins for Installation of New Software
Airbus Service Bulletin— | For model—
(1) A330-31-3087, dated June 26, 2006 | A330-201, -202, -203, -223, -243, -301, -302, -303, -321, -322, -323, -341, -342, and -343 airplanes.
(2) A340-31-4100, dated June 26, 2006 | A340-211, -212, -213, -311, -312, and -313 airplanes.
(3) A340-31-5021, dated June 26, 2006 | A340-541 and -642 airplanes.

Additional Requirements

(i) Prior to accomplishing the requirements specified in paragraph (g) of this AD, do the applicable action(s) specified in Table 3 of this AD.

Table 3.—Additional Requirements
For airplanes identified in— | Install— | In accordance with Airbus Service Bulletin—
(1) Paragraph (h)(1) of this AD | (i) EIS2 software standard L5 | A330-31-3069, Revision 01, dated December 27, 2004.
| (ii) Thales display system standard L4 | A330-31-3056, Revision 03, dated November 25, 2004.
(2) Paragraph (h)(2) of this AD | EIS2 software standard L5 | A340-31-4087, Revision 01, dated December 27, 2004.
(3) Paragraph (h)(3) of this AD | EIS2 software standard L5 | A340-31-5012, Revision 01, dated December 27, 2004.

Credit for Actions Done Using Previous Service Information

(j) Actions accomplished before the effective date of this AD according to Airbus Service Bulletin A330-31-3056, Revision 02, dated March 24, 2003, are considered acceptable for compliance with the corresponding action specified in this AD.

Alternative Methods of Compliance (AMOCs)

(k)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2005-17-18 are approved as AMOCs for the corresponding provisions of paragraph (f) of this AD.

Related Information

(l) European Aviation Safety Agency airworthiness directive 2006-0196, dated July 10, 2006, also addresses the subject of this AD.

Material Incorporated by Reference

(m) You must use the documents identified in Table 4 and Table 5 of this AD, as applicable, to perform the actions that are required by this AD, unless the AD specifies otherwise.

Table 4.—All Operators Telexes Incorporated by Reference
Airbus all operators telex | Date
A330-31A3092 | August 1, 2005.
A340-31A4102 | August 1, 2005.
A340-31A5023 | August 1, 2005.

Table 5.—Service Bulletins Incorporated by Reference
Airbus Service Bulletin | Revision level | Date
A330-31-3056 | 03 | November 25, 2004.
A330-31-3069 | 01 | December 27, 2004.
A330-31-3087 | Original | June 26, 2006.
A340-31-4087 | 01 | December 27, 2004.
A340-31-4100 | Original | June 26, 2006.
A340-31-5012 | 01 | December 27, 2004.
A340-31-5021 | Original | June 26, 2006.

(1) The Director of the Federal Register approved the incorporation by reference of the documents identified in Table 6 of this AD in accordance with 5 U.S.C. 552(a) and 1 CFR part 51.

Table 6.—New Material Incorporated by Reference
Airbus Service Bulletin | Revision level | Date
A330-31-3056 | 03 | November 25, 2004.
A330-31-3069 | 01 | December 27, 2004.
A330-31-3087 | Original | June 26, 2006.
A340-31-4087 | 01 | December 27, 2004.
A340-31-4100 | Original | June 26, 2006.
A340-31-5012 | 01 | December 27, 2004.
A340-31-5021 | Original | June 26, 2006.

(2) On September 12, 2005 (70 FR 50166, August 26, 2005), the Director of the Federal Register approved the incorporation by reference of the documents identified in Table 7 of this AD.

Table 7.—Material Previously Incorporated by Reference
Airbus all operators telex | Date
A330-31A3092 | August 1, 2005.
A340-31A4102 | August 1, 2005.
A340-31A5023 | August 1, 2005.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on June 8, 2007.
Stephen P. Boyd,
Acting Manager, Transport Airplane Directorate, Aircraft Certification Service.

[FR Doc. E7-11672 Filed 6-19-07; 8:45 am]

BILLING CODE 4910-13-P